DEPARTMENT OF TRANSPORTATION

Federal Aviation Administration

14 CFR Parts 405 and 406

[Docket No. FAA-2001-8607; Amendment Nos. 405-2, 406-2]

RIN 2120-AH18

Civil Penalty Actions in Commercial Space Transportation: Delay of Effective Date

AGENCY: Federal Aviation Administration (FAA), DOT.

ACTION: Final rule; delay of effective date.

SUMMARY: In accordance with a memorandum of January 20, 2001, from the Assistant to the President and Chief of Staff, entitled “Regulatory Review Plan,” published in the Federal Register on January 24, 2001, this action temporarily delays for 60 days the effective date of a rule entitled Civil Penalty Actions in Commercial Space Transportation, published in the Federal Register on January 10, 2001 (66 FR 2176). That rule amends the procedures for assessment and adjudication of civil penalties in space transportation enforcement actions.

DATES: The effective date of the final rule amending 14 CFR part 405 and revising 14 CFR part 406 published in the Federal Register on January 10, 2001, at 66 FR 2176, is delayed for 60 days, from February 9, 2001, until April 10, 2001.

FOR FURTHER INFORMATION CONTACT: Mardi Ruth Thompson, Office of the Chief Counsel (AGC-200A), Federal Aviation Administration, 800 Independence Avenue, SW., Washington, DC 20591: telephone (202) 267-3073, facsimile (202) 267-5106, or e-mail: mardi.thompson@faa.gov.

SUPPLEMENTARY INFORMATION:

Background

In accordance with a memorandum of January 20, 2001, from the Assistant to the President and Chief of Staff, entitled “Regulatory Review Plan,” published in the Federal Register on January 24, 2001 (66 FR 7702), this action temporarily delays for 60 days the effective date of a rule entitled Civil Penalty Actions in Commercial Space Transportation, published in the Federal Register on January 10, 2001 (66 FR 2176). That rule amends the procedures for assessment and adjudication of civil penalties in space transportation enforcement actions.

Good Cause for No Notice and Immediate Adoption

To the extent that 5 U.S.C. section 553 applies to this action, it is exempt from notice and comment because it constitutes a rule of procedure under 5 U.S.C. section 553(b)(A). Alternatively, the FAA's implementation of this action without opportunity for public comment, effective immediately upon publication today in the Federal Register, is based on the good cause exceptions in 5 U.S.C. section 553(b)(B) and 553(d)(3). Seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication. This action does not affect the close of the comment period, which remains February 9, 2001.

Issued in Washington, DC on January 31, 2001.
Patricia G. Smith,
Associate Administrator for Commercial Space Transportation.

[FR Doc. 01-3209 Filed 2-7-01; 8:45 am]

BILLING CODE 4910-13-P